DEPARTMENT OF LABOR

Occupational Safety and Health Administration

[Docket No. OSHA-2021-0010]

Federal Advisory Council on Occupational Safety and Health

AGENCY: Occupational Safety and Health Administration (OSHA), Labor.

ACTION: Notice of reestablishment of the Federal Advisory Council on Occupational Safety and Health (hereinafter FACOSH or Council) and request for nominations to serve on FACOSH.

SUMMARY: The Occupational Safety and Health Administration (OSHA) hereby announces that the Federal Advisory Council on Occupational Safety and Health (FACOSH) has been reestablished for a two-year period pursuant to the Federal Advisory Committee Act (FACA) and in accordance with the Committee Management Secretariat, General Services Administration. In addition, the Secretary of Labor (Secretary) requests nominations for membership on FACOSH.

DATES: Submit (postmark, send, transmit) nominations for FACOSH membership by November 22, 2021.

ADDRESSES: You may submit nominations and supporting materials by one of the following methods:

Electronically: You may submit nominations, including attachments, electronically into Docket No. OSHA—2021-0010 at http://www.regulations.gov, which is the Federal eRulemaking Portal. Follow the online instructions for submissions.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and the OSHA docket number for this Federal Register notice (OSHA-2021-0010). OSHA will place comments and requests to speak, including personal information, in the public docket, which may be available online. Therefore, OSHA cautions interested parties about submitting personal information such as Social Security numbers and birthdates.

FOR FURTHER INFORMATION CONTACT:

Press inquiries: Mr. Frank Meilinger, Director, OSHA Office of Communications; telephone: (202) 693-1999; email: meilinger.francis2@dol.gov.

General information: Mr. Francis Yebesi, Director, OSHA Office of Federal Agency Programs; telephone (202) 693-2122; email ofap@dol.gov.

Copies of this Federal Register document: Electronic copies of this Federal Register document are available at http://www.regulations.gov. This document, as well as news releases and other relevant information are also available on the OSHA web page at http://www.osha.gov.

SUPPLEMENTARY INFORMATION: On September 30, 2021, President Joseph Biden signed Executive Order (E.O.) 14048 continuing or reestablishing certain federal advisory committees, including FACOSH, until September 30, 2023 (86 FR 55465 (10/05/2021)). In response, the Secretary reestablished FACOSH and the Department of Labor (DOL) filed the FACOSH charter on October 14, 2021. FACOSH will terminate on September 30, 2023, unless continued by the President. The FACOSH charter is available to read or download at https://www.osha.gov/. In addition, the Secretary invites interested persons to submit nominations for membership on FACOSH.

A. Background

FACOSH is authorized to advise the Secretary on all matters relating to the occupational safety and health of federal employees (5 U.S.C. 7902; 29 U.S.C. 668, Executive Order 12196, as amended). This includes providing advice on how to reduce and keep to a minimum the number of injuries and illnesses in the federal workforce, and how to encourage the establishment and maintenance of effective occupational safety and health programs in each federal agency.

B. FACOSH Membership

DOL invites nominations from a diverse range of qualified candidates to be considered for appointment to FACOSH. The Council was chartered to provide advice relating to the occupational safety and health of federal employees. This notice solicits nominations to fill sixteen vacancies; eight are members representing federal departments and agencies (management members), and eight are from labor organizations representing federal employees (labor members). The Assistant Secretary of Labor for Occupational Safety and Health invites interested individuals to submit nominations for membership on FACOSH. DOL anticipates filling vacancies by December 2021. Sources in addition to this Federal Register Notice will be utilized in the solicitation of nominees.

The Secretary will appoint 16 FACOSH members to staggered terms of up to three years as follows:

• Eight labor representatives—three representatives for three-year terms, three representatives for two-year terms and two representatives for one-year terms; and

• Eight management representatives—three representatives for three-year terms, three representatives for two-year terms and two representatives for one-year terms.

FACOSH members serve at the pleasure of the Secretary and may be appointed to successive terms. FACOSH meets at least twice a year.

DOL is committed to equal opportunity in the workplace and seeks broad-based and diverse FACOSH membership. Any federal agency, labor organization, or individual may nominate one or more qualified persons for membership on FACOSH. Individuals also are invited and encouraged to submit statements in support of a nominee(s).

C. Nomination Requirements

Submission of nominations must include the following information:

1. The nominee's name and contact information;

2. Category of membership (management or labor) that the nominee is qualified to represent;

3. The nominee's resume or curriculum vitae, including prior membership on FACOSH and other relevant organizations, associations and committees;

4. A summary of the nominee's background, experience and qualifications that address the nominee's suitability to serve on FACOSH;

5. Articles or other documents the nominee has authored, if any, that indicate the nominee's knowledge, experience and expertise in occupational safety and health, particularly as it pertains to the federal workforce; and

6. A statement that the nominee is aware of the nomination, is willing to regularly attend and participate in FACOSH meetings, and has no apparent conflicts of interest that would preclude membership on FACOSH.

D. Member Selection

The Secretary appoints FACOSH members based upon criteria that include the nominee's level of responsibility for occupational safety and health matters involving the federal workforce; experience and competence in occupational safety and health; and willingness and ability to regularly and fully participate in FACOSH meetings. Federal agency management nominees who serve as their agency's Designated Agency Safety and Health Official (DASHO), or have an equivalent level of responsibility within their respective federal agencies, are preferred as management members. Labor nominees who have responsibilities for federal employee occupational safety and health matters within their labor organizations are preferred as labor members.

Information received through the nomination process, along with other relevant sources of information, will assist the Secretary in making appointments to FACOSH. In selecting FACOSH members, the Secretary will consider individuals nominated in response to this Federal Register notice, as well as other qualified individuals. OSHA will publish a list of the new FACOSH members in the Federal Register.

OSHA will consider any nomination submitted in response to this notice for the terms that begin January 1, 2022, or shortly thereafter. In addition, OSHA will consider the nominations for any vacancy that may occur during 2022 provided the nominee remains eligible to serve on FACOSH. OSHA believes that “rolling over” nominations for future consideration will make it easier for interested individuals to submit nominations and be considered for membership on FACOSH. This process also will provide OSHA with a broad base of nominations for ensuring that FACOSH membership is fairly balanced, which the Federal Advisory Committee Act requires (5 U.S.C. App.2, Section (5)(b)(2); 41 CFR 102-3.30(c)). OSHA will continue to request nominations as vacancies occur, but nominees whose information is current and accurate will not need to resubmit a nomination.

Authority and Signature

James S. Frederick, Acting Assistant Secretary of Labor for Occupational Safety and Health, directed the preparation of this notice pursuant to 5 U.S.C. 7902; 5 U.S.C. App. 2; 29 U.S.C. 668; E.O. 12196 (45 FR 12629 (2/27/1980)), as amended; 41 CFR part 102-3; and Secretary of Labor's Order 08-2020 (85 FR 58393).

Signed at Washington, DC.
James S. Frederick,
Acting Assistant Secretary of Labor for Occupational Safety and Health.

[FR Doc. 2021-23029 Filed 10-21-21; 8:45 am]

BILLING CODE 4510-26-P